DEPARTMENT OF AGRICULTURE

Foreign Agricultural Service

Trade Adjustment Assistance for Farmers

AGENCY: Foreign Agricultural Service, USDA.

ACTION: Notice.

The Administrator, Foreign Agricultural Service (FAS), today accepted a petition filed by a group of Florida avocado producers for trade adjustment assistance. The Administrator will determine within 40 days whether or not increasing avocado imports contributed importantly to a decline in domestic producer prices of 20 percent or more during the marketing period beginning June 1, 2004, and ending February 28, 2005. If the determination is positive, all producers who produce and market their avocados in Florida will be eligible to apply to the Farm Service Agency for no cost technical assistance and for adjustment assistance payments.

FOR FURTHER INFORMATION CONTACT: Jean-Louis Pajot, Coordinator, Trade Adjustment Assistance for Farmers, FAS, USDA, (202) 720-2916, e-mail: trade.adjustment@fas.usda.gov.

Dated: November 3, 2005.
A. Ellen Terpstra,
Administrator, Foreign Agricultural Service.

[FR Doc. 05-22726 Filed 11-15-05; 8:45 am]

BILLING CODE 3410-10-P